DEPARTMENT OF JUSTICE

Notice of Lodging of Proposed Consent Decree Under the Clean Air Act

On December 29, 2021, the Department of Justice lodged a proposed Consent Decree with the United States District Court for the District of South Carolina, in the lawsuit entitled United States v. New-Indy Catawba LLC, Civil Action No. 0:21-cv-02053-SAL.

The United States filed this lawsuit under the Clean Air Act. The United States' complaint seeks injunctive relief related to emissions of Hydrogen Sulfide from defendant's paper mill in Catawba, South Carolina. The consent decree requires the defendant to perform injunctive relief to abate hydrogen sulfide emissions, and to pay a $1.1 million civil penalty.

The publication of this notice opens a period for public comment on the Consent Decree. Comments should be addressed to the Assistant Attorney General, Environment and Natural Resources Division, and should refer to United States v. New-Indy Catawba LLC, D.J. Ref. No. 90-5-2-1-12471. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined at and downloaded from this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $8.75 (25 cents per page reproduction cost) payable to the United States Treasury.

Lori Jonas,
Assistant Section Chief, Environmental Enforcement Section, Environment and Natural Resources Division.

[FR Doc. 2022-00198 Filed 1-7-22; 8:45 am]

BILLING CODE 4410-15-P